DEPARTMENT OF HEALTH AND HUMAN SERVICES

National Institutes of Health

National Cancer Institute; Amended Notice of Meeting

Notice is hereby given of a change in the meeting of the National Cancer Advisory Board, February 7, 2011, 6:30 p.m. to February 9, 2011, 12 p.m., National Institutes of Health, Building 31, 31 Center Drive, Bethesda, MD 20892 which was published in the Federal Register on December 29, 2010, 75 FR 82035.

This notice is being amended to cancel the Subcommittee on Clinical Investigations meeting on February 7, 2011 from 6:30 p.m. to 8 p.m. and to cancel the National Cancer Advisory Board Meeting on February 9, 2011 from 9 a.m. to 12 p.m. The meeting will be open to the public on February 8, 2011 from 9 a.m. to 3:15 p.m. and the closed session will be from 3:30 p.m. to 5 p.m. The meeting is partially closed to the public.

Dated: January 11, 2011.
Jennifer S. Spaeth,
Director, Office of Federal Advisory Committee Policy.

[FR Doc. 2011-872 Filed 1-14-11; 8:45 am]

BILLING CODE 4140-01-P